DEPARTMENT OF THE INTERIOR

Bureau of Indian Affairs

[245A2100DD/AAKC001030/A0A501010.999900]

Indian Gaming; Extension of Tribal-State Class III Gaming Compact (Standing Rock Sioux Tribe of North and South Dakota & State of South Dakota)

AGENCY: Bureau of Indian Affairs, Interior.

ACTION: Notice.

SUMMARY: This notice announces the extension of the Class III gaming compact between the Standing Rock Sioux Tribe of North and South Dakota & State of South Dakota.

DATES: The extension takes effect on November 7, 2023.

FOR FURTHER INFORMATION CONTACT: Ms. Paula L. Hart, Director, Office of Indian Gaming, Office of the Assistant Secretary-Indian Affairs, Washington, DC 20240, IndianGaming@bia.gov; (202) 219-4066.

SUPPLEMENTARY INFORMATION: An extension to an existing Tribal-State Class III gaming compact does not require approval by the Secretary if the extension does not modify any other terms of the compact. 25 CFR 293.5. The Standing Rock Sioux Tribe of North and South Dakota and the State of South Dakota have reached an agreement to extend the expiration date of their existing Tribal-State Class III gaming compact to February 19, 2024. This publication provides notice of the new expiration date of the compact.

Wizipan Garriott,
Principal Deputy Assistant Secretary—Indian Affairs, Exercising by delegation the authority of the Assistant Secretary—Indian Affairs.

[FR Doc. 2023-24604 Filed 11-6-23; 8:45 am]

BILLING CODE 4337-15-P